DEPARTMENT OF TRANSPORTATION

Federal Aviation Administration

Advisory Circular 33.27-1, Turbine Rotor Strength Requirements of 14 CFR 33.27

AGENCY: Federal Aviation Administration (FAA), DOT.

ACTION: Notice of issuance of advisory circular.

SUMMARY: This notice announces the issuance of Advisory Circular (AC) 33.27-1, Turbine Rotor Strength Requirements of 14 CFR 33.27. This AC sets forth acceptable methods of compliance with the provisions of the rotor strength (overspeed) requirements of 14 CFR 33.27.

DATES: Advisory Circular 33.27-1 was issued by the Engine and Propeller Directorate, ANE-110, on September 27, 2004.

FOR FURTHER INFORMATION CONTACT: The Federal Aviation Administration, Attn: Timoleon Mouzakis, Engine and Propeller Standards Staff, ANE-110, 12 New England Executive Park, Burlington, MA 01803-5299; telephone: (781) 238-7114; fax: (781) 238-7199; e-mail: Timoleon.Mouzakis@faa.gov.

We have filed in the docket all substantive comments received, and a report summarizing them. If you wish to review the docket in person, you may go to the above address between 9 a.m. and 5 p.m., Monday through Friday, except Federal holidays. If you wish to contact the above individual directly, you can use the above telephone number or e-mail address provided.

How To Obtain Copies: A paper copy of AC 33.27-1 may be obtained by writing to the U.S. Department of Transportation, Subsequent Distribution Office, DOT Warehouse, SVC-121.23, Ardmore East Business Center, 3341Q 75th Ave., Landover, MD 20785, telephone 301-322-5377, or by faxing your request to the warehouse at 301-386-5394. The AC will also be available on the Internet at “http://www.faa.gov/”, select “Regulations and Policies” and the link titled “Advisory Circulars”.

(Authority: 49 U.S.C. 106(g), 40113, 44701-44702, 44704.)

Issued in Burlington, Massachusetts on September 27, 2004.
Francis A. Favara,
Acting Manager, Engine and Propeller Directorate, Aircraft Certification Service.

[FR Doc. 04-23072 Filed 10-13-04; 8:45 am]

BILLING CODE 4910-13-M